DEPARTMENT OF COMMERCE

Minority Business Development Agency

President's Advisory Commission on Asian Americans and Pacific Islanders

AGENCY: Minority Business Development Agency, Department of Commerce.

ACTION: Notice of open meeting.

SUMMARY: The President's Advisory Commission on Asian Americans and Pacific Islanders (AAPI Commission) will convene an open meeting to discuss issues related to the draft Commission report to the President. This meeting is open to the public and interested persons may listen to the teleconference by using the call-in number and pass code provided below (see ADDRESSES).

DATES: This meeting will be held on Wednesday, August 5, 2020, from 4:00 p.m. to 6:00 p.m., Eastern Time (ET).

ADDRESSES: This meeting will be held by teleconference, beginning at 4:00 p.m. (ET) on Wednesday, August 5, 2020. Advance registration is required to access the teleconference. Interested persons may register at URL: https://www.mbda.gov/form/second-open-meeting-presidents-advisory-commission-aapis. Access to the teleconference will be shared the day prior to the open meeting.

FOR FURTHER INFORMATION CONTACT: For information regarding the teleconference, please contact Ms. Tina Wei Smith, Executive Director, Office of the White House Initiative on Asian Americans and Pacific Islanders; telephone (202) 482-1375; email: whiaapi@doc.gov.

SUPPLEMENTARY INFORMATION:

Background. The President, through Executive Order 13872 (May 13, 2019), re-established the President's Advisory Commission on Asian Americans and Pacific Islanders to advise the President, through the Secretary of Commerce and the Secretary of Transportation. The AAPI Advisory Commission provides advice to the President on executive branch efforts to broaden access of AAPI communities, families and businesses to economic resources and opportunities that empower AAPIs to improve the quality of their lives, raise the standard of living of their communities and families, and more fully participate in the U.S. economy.

Public Participation. In accordance with Section 10(a)(2) of the Federal Advisory Committee Act, as amended (5 U.S.C. App.), this notice is the public announcement of the Commission's intent to hold a teleconference on August 5, 2020. This meeting is open to the public and interested persons may listen to the teleconference by using the call-in number and pass code to be provided upon registration (see ADDRESSES). Prospective agenda items for the meeting include a deliberation of the draft Commission report to the President, discussion regarding ratification of the report, administrative tasks and such other Commission business as may arise during the meeting. The Commission welcomes interested persons to submit written comments at any time before or after the meeting to the Office of the White House Initiative on Asian Americans and Pacific Islanders (see FOR FURTHER INFORMATION CONTACT). To facilitate distribution of written comments to Commission members prior to the meeting, the Commission suggests that comments be submitted by facsimile or by email no later than August 4, 2020. The Commission will reserve a portion of the meeting to receive pertinent oral comments from members of the public.

Copies of the Commission open meeting minutes will be made available to the public.

Josephine Arnold,
Chief Counsel, Minority Business Development Agency.

[FR Doc. 2020-15549 Filed 7-17-20; 8:45 am]

BILLING CODE P